NATIONAL SCIENCE FOUNDATION

Committee on Equal Opportunities in Science and Engineering; Notice of Meeting

In accordance with the Federal Advisory Committee Act (Pub. L. 92-463, as amended), the National Science Foundation (NSF) announces the following meeting:

NAME AND COMMITTEE CODE: Committee on Equal Opportunities in Science and Engineering (CEOSE) (#1173).

DATE AND TIME:

June 15, 2023 at 1:00 p.m.-5:30 p.m.

June 16, 2023 at 10:00 a.m.-3:45 p.m.

PLACE: National Science Foundation, 2415 Eisenhower Avenue, Alexandria, VA 22314 (Virtual).

Meeting Registration: Registration for the virtual meeting can be accessed at: https://nsf.zoomgov.com/meeting/register/vJItfu6vqDopGHEM9-UpjwMQYZ4Gxc66_pE.

TYPE OF MEETING: Open.

CONTACT PERSON: Dr. Bernice Anderson, Senior Advisor and CEOSE Executive Secretary, Office of Integrative Activities (OIA), National Science Foundation, 2415 Eisenhower Avenue, Alexandria, VA 22314. Contact Information: 703-292-8040/banderso@nsf.gov.

MINUTES: Meeting minutes and other information may be obtained from the CEOSE Executive Secretary at the above address or the website at http://www.nsf.gov/od/oia/activities/ceose/index.jsp.

PURPOSE OF MEETING: To study data, programs, policies, and other information pertinent to the National Science Foundation and to provide advice and recommendations concerning broadening participation in science and engineering.

AGENDA—CEOSE Agenda-at-a-Glance

Day 1: June 15, 2023

1:00 p.m.-1:30 p.m. Opening, Welcome, Introductions

1:30 p.m.-2:00 p.m. Presentation: Report of the CEOSE Executive Liaison

2:00 p.m.-3:00 p.m. Discussion: NSB Merit Review Commission

3:00 p.m.-3:15 p.m. Break

3:15 p.m.-4:15 p.m. Presentation: Supporting Rural STEM Education and Research

4:15 p.m.-5:30 p.m. Discussion: Reports of the CEOSE AC Liaisons

Day 2: June 16, 2023

10:00 a.m.-10:15 a.m. Opening Remarks

10:15 a.m.-11:30 a.m. Discussion: 2021-2022 CEOSE Report and its Dissemination

11:30 a.m.-12:00 p.m. Discussion: Topics to Share with NSF Senior Leadership

12:00 p.m.-1:00 p.m. Lunch Break

1:00 p.m.-1:30 p.m. Discussion with NSF Senior Leadership

1:30 p.m.-2:30 p.m. DEAI Briefing

2:30 p.m.-3:30 p.m. CEOSE Panel: Engaging Tribal/Indigenous Communities

3:30 p.m.-3:45 p.m. Announcements, Closing Remarks, Adjournment

Dated: May 17, 2023.
Crystal Robinson,
Committee Management Officer.

[FR Doc. 2023-10914 Filed 5-22-23; 8:45 am]

BILLING CODE 7555-01-P